DEPARTMENT OF JUSTICE

Notice of Lodging of Consent Decree Under the Comprehensive Environmental Response, Compensation, and Liability Act

Notice is hereby given that on November 17, 1999 a proposed Consent Decree (the “Consent Decree”) in United States v. Intalco Aluminum Corporation (“Intalco”), Civil Action No. CS-99-0324 was lodged with the United States District Court for the Eastern District of Washington.

In this action the United States sought to recover the United States Department of Agriculture Forest Service's (“Forest Service”) past costs incurred in connection with past response actions at the Holden Mine Site (the “Site”), located in the Wenatchee National Forest in Chelan County, Washington. Throughout the history of mining operations at Holden Mine, large quantities of mine tailings were deposited in and around the Site and caused releases of hazardous substances. In 1989 and 1990 the Forest Service performed a variety of actions costing approximately $6 million to stabilize the tailings and prevent further environmental degradation. Under the Consent Decree, Intalco will reimburse the Forest Service $3.1 million for those past costs. Under an Administrative Order on Consent entered into between the Forest Service, Intalco, the Environmental Protection Agency and the State of Washington, Department of Ecology, Intalco is performing a Remedial Action and Feasibility Study for the Site, which is expected to result in selection of a remedy to address hazardous substances at the Site. Under the Consent Decree, Intalco agrees to perform or fund the remedy, subject to future orders or decrees. Additionally, Intalco agrees not to sue the United States for any response costs associated with the Site.

The Department of Justice will receive for a period of thirty (30) days from the date of this publication comments relating to the Consent Decree. Comments should be addressed to the Assistant Attorney General of the Environment and Natural Resources Division, Department of Justice, Washington, D.C., 20530, and should refer to United States v. Intalco Aluminum, D.J. Ref. 90-11-2-1135.

The Consent Decree may be examined at the Office of the United States Attorney, Suite 300, United States Courthouse, 920 West Riverside, Spokane, Washington, 99210; at the Office of the Wenatchee National Forest, 215 Melody Lane, Wenatchee, Washington, 98801; at the Office of the Holden Village, Holden, Washington; and a copy may be obtained from the Department of Justice Consent Decree Library, P.O. Box 7611, Washington, D.C. 20044-7611. In requesting a copy, please enclose a check in the amount of $26.75 payable to the Consent Decree Library.

Joel M. Gross,
Chief, Environmental Enforcement Section, Environment and Natural Resources Division.

[FR Doc. 00-1677 Filed 1-24-00; 8:45 am]

BILLING CODE 4410-15-M